DEPARTMENT OF TRANSPORTATION

Federal Aviation Administration

Advisory Circular (AC) 91-60A, The Continued Airworthiness of Older Airplanes

AGENCY: Federal Aviation Administration (FAA), DOT.

ACTION: Notice of availability and request for comments.

SUMMARY: This notice announces the availability of and request for comments on proposed advisory circular (AC) 91-60A, which provides guidance on the development and use of a service-history-based Structural Supplemental Inspection Program (SSIP) to ensure the continued airworthiness throughout their operational life of all U.S.-registered multiengine airplanes operated under 14 CFR part 129 or part 135 and initially certificated with 9 or fewer passenger seats. This guidance material addresses the requirement of the “Aging Airplane Safety Rule” for the development and use of a service-history-based SSIP. This proposed AC outlines an acceptable method, but not the only method, of compliance with this rule. A previous notice of availability was published in the Federal Register in error on November 20, 2002, and should be disregarded.

DATES: Comments must be received on or before February 4, 2003.

ADDRESSES: Send all comments on the proposed AC to: Frederick Sobeck, AFS-304, Aging Airplane Program Manager, Flight Standards Service, Federal Aviation Administration, 800 Independence Avenue SW., Washington, DC 20591; telephone number: (202) 267-7355.

FOR FURTHER INFORMATION CONTACT: Frederick Sobeck, AFS-304, Aging Airplane Program Manager, Flight Standards Service, Federal Aviation Administration, 800 Independence Avenue SW., Washington, DC 20591; telephone number: (202) 267-7355.

SUPPLEMENTARY INFORMATION:

Comments Invited

A copy of the draft AC may be obtained by accessing the FAA's Web page at http://www.faa.gov/avr/arm/nprm.cfm?nav=nprm or http://faa.gov/avr/afs/acs/ac-idx.htm. Interested parties are invited to submit comments on the proposed AC. Commenters must identify AC 91-60A and submit comments to the address specified above. The FAA will consider all communications received on or before the closing date for comments before issuing the final AC.

Discussion

This proposed AC provides guidance on how to develop a service-history-based maintenance or inspection program to design approval holders, owners, and operators of all U.S.-registered multiengine airplanes operated under 14 CFR part 129 or part 135 and initially certificated with 9 or fewer passenger seats. This proposed AC reflects current maintenance and inspection practices and includes acceptable methods of compliance with the “Aging Airplane Safety Rule.” The proposed AC lists structural points that require more frequent maintenance as an airplane ages and discusses the development of a continuous airworthiness program, including participation by design approval holders and implementation by airplane owner/operators.

Issued in Washington, DC on November 21, 2002.
Louis C. Cusimano,
Deputy Director, Flight Standards Service.

[FR Doc. 02-30110 Filed 12-5-02; 8:45 am]

BILLING CODE 4910-13-P